DEPARTMENT OF LABOR

Employment and Training Administration

[TA-W-65,519]

Goodyear Tire and Rubber Company, Union City, TN; Notice of Termination of Investigation

Pursuant to Section 221 of the Trade Act of 1974, as amended, an investigation was initiated on March 9, 2009 in response to a worker petition filed by the United Steelworkers of America, Local 878, on behalf of workers of Goodyear Tire and Rubber Company, Union City, Tennessee.

The petitioner has requested that the petition be withdrawn. Consequently, the investigation has been terminated.

Signed at Washington, DC, this 10th day of March 2009.
Richard Church,
Certifying Officer, Division of Trade Adjustment Assistance.

[FR Doc. E9-5897 Filed 3-18-09; 8:45 am]

BILLING CODE 4510-FN-P